OFFICE OF NATIONAL DRUG CONTROL POLICY

Paperwork Reduction Act; Notice of Intent To Collect; Comment Request

AGENCY: Office of National Drug Control Policy.

ACTION: The Office of National Drug Control Policy (ONDCP) seeks public comment on its proposed collection of information.

SUMMARY: ONDCP proposes the extension of three existing data collection instruments used in the production of advertising for the National Youth Anti-Drug Media Campaign and for advertising tracking.

Purpose: The existing data collection instruments are critical to the continuity and improvement of the National Youth Anti-Drug Media Campaign.

Type and Title of Collections: Qualitative Research, OMB 3201-0011, uses focus groups. Copy Testing, OMB 3201-0006, consists of 15-minute online interviews. Tracking Study, OMB 3201-0010, consists of 15-minute online interviews.

Frequency: Qualitative Research and Copy Testing performed quarterly. Tracking Study performed weekly.

Affected Public: Teenagers and adult influencers of teenagers.

Estimated Burden: Qualitative Research, $19,800; Copy Testing, $16,500; Tracking Study, $37,700.

Additional information: Collection instruments similar to those proposed are available at the Information Collection Review section of http://www.reginfo.gov/public/jsp/Utilities/index.jsp.

Contact: Address comments or questions to Andrew Hertzberg through any of the following: Executive Office of the President, Office of National Drug Control Policy, Washington DC 20503; AHertzberg@ondcp.eop.gov; (202) 395-6721 (fax); or, (202) 395-6353 (voice).

Signed in Washington DC on January 23, 2013.
Daniel R. Petersen,
Deputy General Counsel.

[FR Doc. 2013-01762 Filed 1-28-13; 8:45 am]

BILLING CODE 3180-02-P